DEPARTMENT OF AGRICULTURE

Forest Service

Northwest Sacramento Provincial Advisory Committee (SAC PAC)

AGENCY: Forest Service, USDA.

ACTION: Notice of meeting.

SUMMARY: The Northwest Sacramento Provincial Advisory Committee (PAC) will meet on March 7, 2002 at Bureau of Land Management, 355 Hemsted Drive, Redding, California. The purpose of the meeting is to discuss issues relating to implementing the Northwest Forest Plan.

DATES: The meeting will be held March 7, 2002.

ADDRESSES: The meeting will be held in the Conference Room at the Bureau of Land Management.

FOR FURTHER INFORMATION CONTACT: Jackie Riley, Committee Coordinator, USDA, Shasta-Trinity National Forest, 2400 Washington Ave., Redding, CA 96001 (530) 242-2203; e-mail: jriley01@fs.fed.us.

SUPPLEMENTARY INFORMATION: The meeting is open to the public. Public input opportunity will be provided and individuals will have the opportunity to address the Committee at that time.

Dated: January 17, 2002.
J. Sharon Heywood,
Forest Supervisor.

[FR Doc. 02-1715 Filed 1-23-02; 8:45 am]

BILLING CODE 3410-FK-M